NATIONAL SCIENCE FOUNDATION

Agency Information Collection Activities: Comment Request

AGENCY: National Science Foundation.

ACTION: Submission for OMB Review; Comment Request.

SUMMARY: The National Science Foundation (NSF) has submitted the following information collection requirement to OMB for review and clearance under the Paperwork Reduction Act of 1995, Public Law 104-13. This is the second notice for public comment; the first was published in the Federal Register at 79 FR 26778, and 54 comments were received. NSF is forwarding the proposed renewal submission to the Office of Management and Budget (OMB) for clearance simultaneously with the publication of this second notice. The full submission may be found at: http://www.reginfo.gov/public/do/PRAMain.

The National Science Foundation (NSF) is announcing plans to request renewed clearance of this collection. The primary purpose of this revision is to implement 2 CFR 200, Uniform Administrative Requirements, Cost Principles and Audit Requirements for Federal Awards (Uniform Guidance). NSF has requested and received from the Office of Management and Budget (OMB) approval to implement the Uniform Guidance through NSF's longstanding practice of implementing these requirements via use of a policy rather than regulation. In conjunction with the terms and conditions of the award, the Proposal and Award Policies and Procedures Guide (PAPPG), and its predecessors, have served as NSF's implementation vehicle for OMB Circular A-110 since its initial issuance in 1976.

Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725—17th Street NW., Room 10235, Washington, DC 20503, and to Suzanne H. Plimpton, Reports Clearance Officer, National Science Foundation, 4201 Wilson Boulevard, Suite 1265, Arlington, Virginia 22230 or send email to splimpto@nsf.gov. Individuals who use a telecommunications device for the deaf (TDD) may call the Federal Information Relay Service (FIRS) at 1-800-877-8339, which is accessible 24 hours a day, 7 days a week, 365 days a year (including federal holidays).

Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

SUPPLEMENTARY INFORMATION:

Summary of Comments on the National Science Foundation Proposal and Award Policies and Procedures Guide and NSF's Responses

The draft NSF PAPPG was made available for review by the public on the NSF Web site at http://www.nsf.gov/bfa/dias/policy/. In response to the Federal Register notice published May 9, 2014, at 79 FR 26778, NSF received 54 comments from 18 different institutions/individuals. Following are three tables showing the summaries of the comments received on the PAPPG sections, with NSF's response.

GPG section and topic | Commenter | Comment | NSF response
GPG, Chapter I.F.2. Inclement Weather Policy | Council on Governmental Relations | We encourage NSF to add additional clarification and modification to this section that reflect more accurately the challenges faced in natural and/or anthropogenic events. The ability of a potential applicant to request prior approval for natural or anthropogenic events can be severely affected by the very event that prevents timely submission | The section has been revised to delete “prior” from the approval requirement, given the unanticipated nature of natural or anthropogenic events.
GPG, Chapter I.F.2. Inclement Weather Policy | Council on Governmental Relations | We request that NSF modify this section to include a provision for: (1) Notification by the potential applicant as soon as possible but no later than five (5) days after the event and, based on that notification; (2) a determination and authorization, as appropriate, by the program officer for a late submission. NSF could alleviate the anxiety associated with unanticipated institutional closings by providing a standard exception for situations of short duration. Campuses can be closed for a variety of reasons including natural or anthropogenic events, which can require several days to return to normal operations. The recommendation above can help address that situation. Recently, however, campuses have been closed for a day for “man-made” events including sightings of armed assailants and other health and safety issues. We ask NSF to consider a standard exception of one day (next business day) for applicants whose campus is closed for an unanticipated event. The application could be submitted with documentation from the authorized institutional official or the official's designee Similarly, we suggest that NSF consider a standard provision for late submission in those cases where NSF is unable to operate because of natural, anthropogenic, and weather related or other events. Such a provision could set a specific number of days after the event for a new submission deadline. For example, in the case of closures because of inclement weather, the deadline could be set as the day following reopening of federal offices. Any deviations from this standard could be announced on the NSF Web site | The section has been updated to specifically address the closure of NSF. Additionally, the revised language developed by NSF provides greater flexibility than the language proposed by the commenter. NSF believes that such flexibility is important given the nature of the deviation request.
GPG, Chapter I.F.2. Inclement Weather Policy | Cold Spring Harbor Laboratory | Recommend that this policy provide additional flexibility for “after the fact approval”, for circumstances such as unforeseen natural disasters that may not have allowed an investigator or institution to seek and obtain NSF approval prior to the deadline | Comment has been addressed by the inclusion of a new change which authorizes an after the fact approval.
GPG, Chapter II.C.2.d.(ii) Use of URLs outside the Project Description | Massachusetts Institute of Technology | Can the NSF policy on URLs in other documents be clarified? In the Project description, we understand that these are discouraged per GPG II.C.2.d.ii. At MIT, we have had a couple of funding divisions ask for proposal file updates to remove links from the references biographical sketches whereas other divisions do not require this. The GPG states that appropriate citations for references cited (II.C.2.e) or Biosketch “products” (II.C.2.f) may include URLs, so it's unclear how to treat this as many PDF generating programs automatically treat URLs as links | NSF believes the existing language on inclusion of URLs is clearly articulated and further action is neither necessary nor appropriate.
GPG, Chapter II.C.2.f.(i)(e) Biographical Sketches: Collaborators & Other Affiliations | Massachusetts Institute of Technology | Biosketch section (e) adds “the total number of collaborators and co-editors also must be identified”. Should this change versus 14-1 be highlighted? | This change will be highlighted in the Summary of Significant Changes.
GPG, Chapter II.C.2.f.(ii) Biographical Sketches: Other Personnel | Massachusetts Institute of Technology | This section suggests that information on the qualifications other personnel may be included, but it is unclear where this should be included. FastLane does not include a place to upload biosketches for non-senior personnel. Can the correct place to include non-senior bio information be specified? | New language has been added to the Biographical Sketch(es) instructions which states: “Such information should be clearly identified as `Other Personnel' biographical information and uploaded along with the Biosketches for Senior Personnel in the Biosketches section of the proposal.”
GPG, Chapter II.C.2.g.(ii); AAG, Chapter V.B.1.b. Fringe Benefits | University of Wisconsin | Both of these sections describe the ability of the grantee to charge fringe benefits as direct costs, given that charges are made in accordance with usual accounting practices and/or with approval of the cognizant federal agency. Reference also is made to 2 CFR § 200.431, within which part (b)(3)(i) states that, “Payments for unused leave when an employee retires or terminates employment are allowable as indirect costs in the year of payment.” We want to confirm our understanding that NSF policy does not preclude costs of unused leave at retirement and termination from being directly charged to NSF awards. We recognize that NSF policy indicates that such payments may be subject to reasonableness determination. Additionally, we seek affirmation that 2 CFR § 200.431 is incorporated into NSF policy to acknowledge that such unused leave also may be allowable as indirect costs and is not a directive to institutions to charge such costs as indirect costs | This issue will be addressed in the latest version of the Frequently Asked Questions that are being developed by the Office of Management and Budget. As such, it would not be appropriate for the issue to be resolved by NSF.
GPG, Chapter II.C.2.g.(vi) Other Direct Costs | Trish Lowney | “Examples include . . . And construction of equipment or systems not available off-the shelf.” Confusing: Doesn't fabricated equipment (construction of equipment or systems not available off-the-shelf) that meets the institution's capitalization threshold (e.g., $5,000) ought to be included in the equipment budget line (e.g., MRI development options awards)? | Language has now been modified to help eliminate confusion regarding where equipment should be addressed in the budget.
GPG, Chapter II.C.2.g.(vi)(a) Materials & Supplies, including Costs of Computing Devices | University of Alabama | The University appreciates the clarification that a computing device is a supply as long as it does not meet the lesser of institution's capitalization level or $5,000. It would be helpful if the PAPPG also included in this section the following statement found at 200.453(c) in the Uniform Guidance: “In the specific case of computing devices, charging as direct costs is allowable for devices that are essential and allocable, but not solely dedicated, to the performance of a Federal Award.” | Language has been incorporated as requested.
GPG, Chapter II.C.2.g.(vi)(c) Consultant Services | Trish Lowney | “. . . services rendered by persons who are members of a particular profession. . . And who are not officers or employees of the proposing institution. . .” Clarify whether or not “persons” include organizations/entities that meet definition of contractor and should be managed by a contract for provision of consultant services. Clarify whether that the contracting vehicle to be used must comply with Appendix II of the UG. | NSF has implemented consultant services consistent with 2 CFR 200.459 which states: “Costs of professional and consultant services rendered by persons who are members of a particular profession or possess a special skill, and who are not officers or employees of the non-Federal entity, are allowable, subject to paragraphs (b) and (c) when reasonable in relation to the services rendered and when not contingent upon recovery of the costs from the Federal government. In addition, legal and related services are limited under § 200.435 Defense and prosecution of criminal and civil proceedings, claims, appeals and patent infringements.” As such, it would not be appropriate to deviate from this language. Additional language has been added to the consultant services section to address compliance with Appendix II of the Uniform Guidance.
GPG, Chapter II.C.2.g.(vi)(d) Computer Services | Council on Governmental Relations | We appreciate that NSF has acknowledged that computing devices below an institution's equipment threshold are allowable. However, per Chapter II.2C.g.(vi)(d), the reference to “computer equipment” may create confusion in the community by suggesting that computing devices are unallowable. Per this section: “As noted in Chapter II.C.2.g.(iii) above, general purpose (such as word processing, spreadsheets, communication) computer equipment should not be requested.” We request that you consider deleting this reference, since most such devices do not rise to the level of equipment. Or, alternatively, reinforcement that computing devices below an institution's equipment threshold are allowable would be a helpful footnote to include and would be an important reminder to auditors of the differentiation between supplies and equipment. | Additional language has been added to point users to the appropriate section of the budget preparation instructions for guidance on the acquisition of computing devices.
GPG, Chapter II.C.2.g.(vi)(e) Subawards, Foreign Subrecipients | Massachusetts Institute of Technology | In GPG II.C.2.g.vi.e, the old policy that foreign subawardees are not eligible for indirect costs is mentioned. However, GPG II.C.2.g.viii references 2 CFR 200.414, which indicates a 10% de minimus rate is allowable for foreign grantees. Should this also apply to foreign subawardees? | Language in both the subaward and indirect cost sections of the Grant Proposal Guide has been revised to clarify application of a de minimus rate.
GPG, Chapter II.C.2.g.(vi)(e) Subawards, Foreign Subrecipients | University of Minnesota | The phrase is inconsistent with the Uniform Guidance's section 200.331, which allows for a 10% MTDC de minimus rate. The ability to apply the 10% MTDC de minimus rate is correctly spelled out on the following page (II-18) in the indirect cost section. It would be helpful to have the first reference corrected to avoid confusion. | Language in both the subaward and indirect cost sections of the Grant Proposal Guide has been revised to clarify application of a de minimus rate.
GPG, Chapter II.C.2.g.(vi)(e) Subawards, Budgets | University of Wisconsin | NSF recently clarified that each proposal's budget justification is limited to three pages, including a collaborative proposal from a single organization that contains a subaward(s). However, if a subaward is requested post-award, a proposer may submit up to a three-page budget justification for each subaward. This creates an inconsistency regarding what is submitted to obtain a subaward approval. A subaward budget justification may contain critical information regarding proposed costs, and we recommend that all subawards be allowed to include a budget justification of up to three pages, regardless of whether they are submitted with a new proposal or as a post-award action. | This request has been incorporated and language has now been revised to read as follows: “Each proposal must contain a budget for each year of support requested, unless a particular program solicitation stipulates otherwise. The budget justification must be no more than three pages per proposal. . . For proposals that contain a subaward(s), each subaward must include a separate budget justification of no more than three pages.”
GPG, Chapter II.C.2.g.(viii) Indirect Cost | Council on Governmental Relations | The first two sections referenced above state: “Foreign grantees that have never had a negotiated indirect cost rate are limited to an indirect cost rate recovery of 10% of modified total direct costs. Foreign grantees that have a negotiated rate agreement with a U.S. federal agency may recover indirect costs at the current negotiated rate.” This seems to suggest that this rule would not be applicable to domestic grantees; we request that this section be clarified to state these rules apply to all grantees. The third reference above states: “Foreign subrecipients are not eligible for indirect cost recovery unless the subrecipient has a previously negotiated rate agreement with a U.S. Federal agency that has a practice of negotiating rates with foreign entities.” This seems to be inconsistent with the previously referenced sections and the Uniform Guidance; we request that this section be updated, accordingly. | Language in both the subaward and indirect cost sections of the Grant Proposal Guide has been revised to clarify application of a de minimus rate.
GPG, Chapter II.C.2.g.(viii) Indirect Cost | Trish Lowney | Foreign Grantees that have never had negotiated IDC are limited to 10% MTDC. Seems to conflicts with II-17/(e) Subawards: foreign subrecipients not eligible for IDC. Consistency needed or otherwise explain why handled differently D14. | Language in both the subaward and indirect cost sections of the Grant Proposal Guide has been revised to clarify application of a de minimus rate.
GPG, Chapter II.C.2.g.(viii). Indirect Cost | University of Minnesota | We would like to take this opportunity to thank NSF for its clear and unambiguous statement in its proposed implementation plan about the need for pass-through entities to honor their subrecipient's negotiated F&A rate. NSF's well-articulated position on this supports full cost recovery. | Thank-you. No NSF response required.
GPG, Chapter II.D.3.. Ideas Lab | Council on Governmental Relations | It is not clear what the nature and extent of support from NSF will be for participants in Stage 3 of the Ideas Lab. If a participant is expected to travel and/or contribute substantial portions of their time—substantial enough to re-allocate their institutional responsibilities—we believe the institution should be a party to any agreement to participate. If, as indicated, the Stage 2 selection process uses the preliminary proposal format in Fastlane with the required submission through the Sponsored Program Office, our concerns about notification are alleviated. If there are costs associated with participation that will be provided by NSF, we assume that participant support would be allocated as a grant through the institution with the usual budgetary considerations related to participant support. Because of the collaborative nature of the Ideas Lab, we assume any Stage 4 invited full proposals will be submitted according to the Special Guidelines described at GPG Ch. II d. 5. This approach raises some questions concerning the submission process and we encourage NSF to clarify the submission process either in the Funding Opportunity Announcement or in the PAPPG. Will the participating institutions have the option to submit either a single proposal or simultaneous proposals from all participating organizations? Will renewal proposals require a preliminary proposal or submission of a full proposal within a regular funding cycle? | Language has now been added to specify the anticipated length of the Ideas Lab. The funding opportunity will clearly instruct the selected teams on how the full proposal should be prepared, and will address whether it should be submitted either as a single proposal or as simultaneous proposals from all participating organizations. Unless otherwise specified in the funding opportunity, renewal proposals will be submitted as standard research proposals following the guidance provided in the Grant Proposal Guide.
GPG, Chapter II.D.6. Proposals for Equipment | Trish Lowney | Notes that equipment to be purchased, modified or constructed must be described . . . Seems to conflict with II-16 other direct costs presented above? That is, constructed equipment—equipment if > capitalization threshold and in equipment budget line (with associated alteration and modification costs) and *not* in other direct costs? | Language has been revised in the Equipment Proposal preparation instructions in GPG, Chapter II.C.2.g.(iii) to address the issue.
GPG, Chapter II.D.8. Dual Use Research of Concern | Council on Governmental Relations | We appreciate that the provisions for meeting the US Government Policy for Oversight of Life Sciences Dual Use Research of Concern and the proposed US Government Policy for Institutional Oversight of Life Sciences Dual Use Research of Concern have been described as contingent on the publication of the final US Government Policy for Institutional Oversight of Life Sciences Dual Use Research of Concern. However, we understand that these are two separate but linked policies and that the agencies are expected to meet the requirements of the US Government Policy for Oversight of Life Sciences Dual Use Research of Concern. We agree with the observation at AAG Ch. VI B 5 b. that it is unlikely that NSF sponsored research will fall under these policy requirements. Nonetheless, it may be helpful to offer more direction at GPG Ch. II D. 9 to the grantee concerning the implementation of the policy for agencies. An indication of how NSF will engage in the development of plans with grantee organizations to mitigate the risks associated with DURC may be helpful. Such a statement or provision could outline the path for communications with NSF as in the AAG and the process for reporting by the PI/PD described in the agency policy. | Dual Use Research of Concern will now not be implemented in this version of the PAPPG and all DURC-related language has been removed.
GPG, Chapter II.D.8. Dual Use Research of Concern | Massachusetts Institute of Technology | Dual Use Research of concern is at II.D.9, not II.D.8. | Dual Use Research of Concern will now not be implemented in this version of the PAPPG and all DURC-related language has been removed.
GPG, Chapter II.D.10. Proposals for Conferences | Boise State | Requiring an estimated total budget is inconsistent with NSF's prohibition of voluntary committed cost share. The prohibition of voluntary committed cost share is also referenced in the AAG, page II-5, NSF 15_1 draft. | Language has been revised to read as follows: “Proposal Budget: A budget for the conference that is prepared in accordance with GPG Chapter II.C.2g. The budget may include participant support for transportation (when appropriate), per diem costs, stipends, publication and other conference-related costs. Note: Participant support costs must be excluded from the indirect cost base; see GPG Chapter II.C.2g(v). For additional information on Program Income associated with conferences, see AAG Chapter III.D.4.”
GPG, Chapter II.D.10. Proposals for Conferences | Stanford University | Chapter II.D.10 of NSF's PAPPG be clarified to indicate that it only applies to direct costs, if indeed that is the intent. It currently says “NSF funds are not to be spent for meals and coffee breaks for intramural meetings of an organization or any of its components, but not limited to laboratories, departments and centers either as direct or indirect costs.” | Language has been revised to read: “NSF funds are not to be spent for meals and coffee breaks for intramural meetings of an organization or any of its components, including, but not limited to, laboratories, departments and centers, as a direct cost.”
GPG, Chapter III.F. Use of the Term Proposer | Council on Governmental Relations | We encourage NSF to standardize the language throughout this section with the terms used throughout the PAPPG. The use of the term “proposer” has created some confusion in the community particularly at grantee institutions with multiple investigators. We request that “proposer” be replaced with “grantee” because we understand that all new grantee institutions may be evaluated under the Risk Management Framework. | NSF does not concur with this recommendation. There are significant differences in terms of process, including with respect to requirements imposed on proposers versus awardees. The terms “proposer” and “grantee” are not interchangeable.
GPG, Chapter III.F. NSF Risk Management Framework | Cold Spring Harbor Laboratory | It is unclear what defines “all new proposers” that will be subjected to additional pre-award financial and administrative review. Recommend that NSF provide additional clarification whether this additional scrutiny will be limited to institutions that have never received NSF funding. If this is the intent, then the text should be modified to reflect this. | The language regarding the conduct of pre-award financial and administrative review has been modified to only include: “. . . all proposers recommended for award that have not received NSF funding in the last five years, with particular focus on proposers whose cumulative NSF funding would amount to $200,000 or more.”
GPG, Exhibit III-1 NSF Proposal & Award Process Timeline | University of Wisconsin | The NSF Proposal and Award Process & Timeline does not capture the new process in which DGA or DACS may decide to decline an award after financial or administrative review. The graphic seems to indicate that declines occur only at the Division Director level, which is no longer accurate. Updating the graphic may prevent confusion regarding the declination process | The Proposal and Award lifecycle graphic will be modified to incorporate declinations made by DGA or DACS.
GPG, Chapter IV.D.1.b. Reconsideration | Trish Lowney | If a proposal has been declined by the NSB, only an explanation will be available Unclear; the Board's role or involvement in the declination process seems not well defined | NSF does not believe that further information on NSB declinations, beyond that provided, is necessary.

Award and Administration Guide (18 comments, including one duplication):

AAG Section and topic | Commenter | Comment | NSF response
AAG, Chapter I.C.2.a. Research Terms & Conditions | Cal Tech | The note on page I-2 of the GPG indicates that the Research Terms and Conditions “will be added to this list, if available, at the time of issuance.” From the point of view of the research community, having the Research Terms and Conditions reintroduced is extremely important and very beneficial. We urge NSF to use its influence to strengthen the case for the return of the Research Terms and Conditions and appreciate your efforts along those lines | The future of the Research Terms and Conditions is currently being considered by the NSTC/RBM.
AAG, Chapter II.C.3.b. Cost Sharing | University of Wisconsin | We appreciate the confirmation that all awards subject to statutory cost sharing have been closed out. We also note that NSF has changed cost sharing requirements. Where NSF previously required reports only when a cost sharing commitment of $500,000 or more existed, grantees must now report on mandatory cost sharing on an annual and final basis. Although we assume that this change is being made in conformance with the Uniform Guidance, we acknowledge that this new level of reporting will create an increased administrative burden on grantees | NSF takes the imposition of new administrative requirements very seriously. Given the limited number of awards that have cost sharing requirements, and the importance of meeting the financial commitments made by the recipient, we believe it is important that organizations provide this information to NSF, irrespective of the dollar value of the cost sharing.
AAG, Chapter II.D.5.; AAG, Chapter III.E. Grant Closeout | Council on Governmental Relations | COGR respectfully asks NSF to request a deviation from OMB that the submission date for all financial, performance, and other reports and the liquidation date be set to a new standard of 120-days after the end date of the period of performance Specifically, we request that the submission date for all financial, performance, and other reports and the liquidation date be set to a new standard of 120-days after the end date of the period of performance. Per 2 CFR § 200.343 Closeouts, (g), Federal awarding agencies should complete all closeout actions no later than one year after the acceptance of all required final reports. This effectively sets the final closeout clock at 15 months (i.e., 90 days plus one year) after the end date of the award. Within that time period, COGR believes that all parties can work in a bi-lateral fashion to ensure an award is closed in the most timely, efficient, and accurate manner possible. Under this bi-lateral closeout model, both the federal agency and the grantee recognize each other's system and resource constraints and will work together to provide sufficient flexibility toward achieving the final closeout objective | NSF implemented award financial closeout requirements as established by the Uniform Guidance paragraph 2 CFR § 200.343(b) which states that “a non-Federal entity must liquidate all obligations incurred under the Federal award not later than 90 calendar days after the end date of the period of performance as specified in the terms and conditions of the Federal award.” Additionally, NSF complies with the requirements established by the Uniform Guidance paragraph 200.343(e) which states “the Federal awarding agency or pass-through entity must make a settlement for any upward or downward adjustments to the Federal share of costs after closeout reports are received.” Adjustments to the Federal share of costs can be completed by awardee institutions through the Award Cash Management Service (ACM$) and submitted on line to NSF for 18 months after the award expiration date. Downward adjustments can be submitted until the appropriations funding the award cancel. ACM$ enables awardee institutions to submit adjustments with essentially no increased workload over that of a standard payment request. NSF believes the capabilities offered by ACM$ for adjustments to financially closed awards mitigate the effects of the implementation of the 90-day financial closeout. However, NSF is committed to the long standing partnership with its awardee institution population. As such, NSF will consider the feasibility of requesting a deviation from the Uniform Guidance requirements. However, such a deviation would be dependent upon the concurrence of other research oriented Federal agencies in order to establish a consistent requirement for the timing of award financial closeout actions. NSF believes a 120-day standard award closeout would be feasible, if agreement can be reached within the Federal agency research community. NSF believes a unilateral deviation from the Uniform Guidance for award financial closeout would not be consistent with the intent of the Uniform Guidance and could introduce the type of uncertainty within the grant administration community that the Uniform Guidance was intended to improve.
AAG, Chapter II.D.5.; AAG, Chapter III.E. Grant Closeout | University of California | We echo COGR's request that NSF request a deviation from OMB to establish a new 120-day standard to close out awards. We are committed to submitting timely and accurate final reports. However, additional administrative and compliance requirements, as well as increasing numbers of multi-disciplinary/multi-site projects make meeting the 90-day deadline in an accurate and complete fashion difficult. A new 120-day standard would, as COGR points out, allow both parties to finalize the closeout process with fewer corrections and revisions, including coordinating with lower tier partners | See answer to the Council on Governmental Relations on the same issue above.
AAG, Chapter II.D.5.; AAG, Chapter III.E. Grant Closeout | Massachusetts Institute of Technology | MIT requests that the NSF apply for a deviation from OMB allowing the closeout submission deadline to be changed from the current 90-standard to a new 120-day standard, as also requested by the Council on Governmental Relations (COGR). MIT has identified subawards as a major factor contributing to delays in award closeout, and the additional 30 days would significantly improve our compliance We recognize that closeouts require more work and attention to detail than ever before, on the part of both the federal awarding agency and the non-federal awardee organization. This additional work impacts all of us, and our primary goal with this request is to complete the closeout in the most timely, efficient, and accurate way possible. Per 2 CFR § 200.343 Closeouts (g), the Federal awarding agency should complete closeout within 15 months after the expiration date of an award (90 days + 1 year), and we believe that allowing awardee organizations an extra 30 days out of this window should not negatively impact NSF's workflow | See answer to the Council on Governmental Relations on the same issue above.
AAG, Chapter III.E. Financial Requirements and Payments | University of Minnesota | We applaud NSF for the great partnership created with Universities through the implementation of the ACMS system and the replacement of the FFR and Cash Request Function. The single system point of entry and acknowledgement and new understanding that the amount drawn equated to amount spent is a great step in moving to a streamlined and more efficient financial process. We encourage NSF to critically consider the closeout process as described in the COGR letter | See answer to the Council on Governmental Relations on the same issue above.
AAG, Chapter II.E. Record Retention & Audit | University of Alabama | While this is not a change in NSF policy, it is more burdensome that the requirements of the Uniform Guidance found in 200.333: “Financial records . . . and all other non-Federal entity records pertinent to a Federal award must be retained for a period of three years from the date of submission of the final expenditure report or, for Federal awards that are renewed quarterly or annually, from the date of the submission of the quarterly or annual financial report, respectively, as reported to the Federal awarding agency or pass-through entity . . . Federal awarding agencies and pass-through entities must not impose any other record retention requirements upon non-Federal entities.” Although it is becoming easier to track submission of project reports to NSF, and the University appreciated NSF's progress in this area, it is still more complicated for recipients to identify and record the project report submission date and to ensure it is used for record retention purposes when it occurs after the date of the award financial closeout and is, in practice, an additional record retention requirement | The record retention language specified in Award & Administration Guide Chapter II has been revised to read as follows: “1. Financial records, supporting documents, statistical records and all other records pertinent to the NSF grant must be retained by the grantee for a period of three years from award financial closeout described in AAG Chapter III.E.3, except as noted in 2 CFR 200.333.”
AAG, Chapter II.E. Record Retention & Audit | University of Alabama | 2 CFR 200.87—“Research and Development (R&D) R&D means all research activities, both basic and applied, and all development activities that are performed by non-Federal entities. The term research also includes activities involving the training of individuals in research techniques where such activities utilize the same facilities as other research and development activities and where such activities are not included in the instruction function. “Research” is defined as a systematic study directed toward fuller scientific knowledge or understanding of the subject studied. “Development” is the systematic use of knowledge and understanding gained from research directed toward the production of useful materials, devices, systems, or methods, including design and development of prototypes and processes. While NSF's mission, “to promote the progress of science; to advance the national health, prosperity, and welfare; to secure the national defense; and for other purposes” is advanced primarily through the support of science and engineering research, not all of the activities NSF funds meet the definition of Research and Development, as other types of activities, such as education, also promote the progress of science. The fact that NSF funds education programs and other activities that do not involve a systematic study of a subject or the use of research results in the production of materials, etc. is included throughout the PAPPG. For example, the definition of Assistance Award states that for NSF, they “involve the support or stimulation of scientific and engineering research, science and engineering education or other related activities.” While “NSF recognizes that some awards may have another classification for purposes of indirect costs,” the inconsistency in classification for various purposes creates problems in determining the appropriate indirect cost rate to charge (which can be particularly burdensome to faculty), in appropriately categorizing expenditures and space in indirect cost rate proposals and in other areas of administration and management of funds. The OMB Circular A-133 Compliance Supplement contains in Part 5, Clusters of Programs, specific instructions for auditing Research and Development Programs. The Compliance Requirements and Suggested Audit Procedures are not always the most appropriate for educational, service or other non-research programs/activities | This issue was raised during the last comment period for the NSF Proposal and Award Policies and Procedures Guide and is considered resolved. NSF does not intend to make further changes to the language provided.
AAG, Chapter II.E. Record Retention & Audit | University of Minnesota | The CFDA number of NSF awards is provided to the Grantee at the time of award on the Award Notice. The CFDA number provided by NSF is a CFDA that falls into a cluster category as outlined in the compliance supplement. If a CFDA number isn't defined in a category the guidance is to report the CFDA by function. At a macro level, institutions plan and review their portfolios by mission (function); teaching, training, research, public service, etc. Institutionally, function is defined by how the activity (transaction) accomplishes the mission of the university. For example, awards with the primary function of training would not fall under the mission of research at our institution. Our financial statements summarize all our mission activity by function. Our SEFA is reconciled to the Financial Statements as required. Requiring the institution to arbitrarily report activity as part of the R&D Cluster when institutionally we have defined the activity as another function will cause additional reconciliation steps and ongoing “reporting discrepancies.” | This issue was raised during the last comment period for the NSF Proposal and Award Policies and Procedures Guide and is considered resolved. NSF does not intend to make further changes to the language provided.
AAG, Chapter III.D.4.b. Program Income | Stanford University | We respectfully ask that NSF request a deviation from OMB that income from license fees and royalties be excluded from the definition of program income (Part II, Chapter III.D.4.b). Statutory requirements under the Bayh-Dole Act (35 U.S.C. 202(c)(7)) supersede any described treatments of license fees and royalties per sections 200.80 and 200.307(f) in the Uniform Guidance. We believe OMB has confirmed the precedence of U.S. law or statute over the OMB Uniform Guidance. Therefore reporting to Federal agencies on Program Income should not include such license fees and royalties | Language has been modified in AAG, Chapter III.D.4.c.(1) to address the issue as follows: “The grantee also shall have no obligation to NSF with respect to program income earned from license fees and royalties for copyrighted material, patents, patent applications, trademarks, and inventions produced under an award. However, Patent and Trademark Amendments (35 U.S.C. 18) shall apply to inventions made under an award.”
AAG, Chapter IV.D. Property Management Standards | University of Wisconsin | Thank you for providing verification that NSF has the authority under the Federal Technology Transfer Act to vest title in an institution of higher education. This should allow institutions of higher education to continue handling title in a manner to which they are accustomed | Thank-you. No NSF response required.
AAG, Chapter IV.E. Procurement | Council on Governmental Relations | COGR respectfully asks NSF to request a deviation from OMB that Institutions of Higher Education (IHEs), Nonprofit Research Organizations (NROs), and all research performers be exempted from Procurement Standards Sections 200.317 through 200.326. Procurement Standards under Circular A-110 should be reinstated for research performers The PAPPG states that NSF grantees shall adhere to the requirements of 2 CFR 200.317-326, which prescribes standards for use by recipients in establishing procedures for procurement. COGR has documented that implementation of 2 CFR § 200.317-326 will: (1) Create increased cost and administrative burden via expensive process-workflow and IT system changes, (2) require a long lead time to implement, which cannot effectively be accomplished by December 26th, and (3) result in risk to program performance—for example, critical research tools and supplies that normally would be acquired in one day could take at least one week to acquire. By securing the deviation requested above, NSF can help ensure the continuity of current and effective procurement practices in place at IHEs and NROs, without any sacrifice to institutional accountability and stewardship of federal funds | The issue of procurement standards contained in the new Uniform Guidance has been brought to the attention of the Office of Management and Budget. Any decisions regarding implementation rest with OMB, and, cannot be addressed independently by NSF.
AAG, Chapter IV.E. Procurement | University of California | We strongly request that NSF request a deviation from OMB exempting Institutions of Higher Education (IHEs) from the procurement requirements outlined in the Uniform Guidance (2 CFR 200.317-326). These new procurement documentation and sourcing standards will require UC to restructure longstanding procurement practices, redesign internal controls for procurement processes, reconfigure supporting E-procurement systems, and execute a wholesale change management strategy to re-educate faculty, staff, and students across 10 campuses and five medical centers. It will be costly and difficult, if not impossible, to implement such changes by the required date of December 26, 2014 | The issue of procurement standards contained in the new Uniform Guidance has been brought to the attention of the Office of Management and Budget. Any decisions regarding implementation rest with OMB, and, cannot be addressed independently by NSF.
AAG, Chapter IV.E. Procurement | Massachusetts Institute of Technology | MIT also supports COGR's request that NSF apply for a deviation allowing Institutions of Higher Education (IHEs), Nonprofit Research Organizations (NROs), and all research performers to be subject to the prior procurement standards of Circular A-110. We absolutely recognize and agree with the need to make the best use of our scarce resources, but for IHEs, NROs, and research performers of all types, this change would be too sudden to implement by the end of the year The requirements of the Procurement standards in 200.317 through 200.326 call for system solutions. Without a system for capturing the required documentation, the additional administrative effort on each transaction would significantly outweigh any cost savings. It is simply not feasible for IHEs and NROs to put new procurement documentation systems in place by the December 26th deadline. Additionally, the additional time this would require for each transaction would seriously impact the flexibility needed to effectively respond to the unpredictability of fundamental research | The issue of procurement standards contained in the new Uniform Guidance has been brought to the attention of the Office of Management and Budget. Any decisions regarding implementation rest with OMB, and, cannot be addressed independently by NSF.
AAG, Chapter V.A.2.c. Publication and Printing Costs | University of Florida | Regarding the third paragraph “However, in accordance with 2 CFR 200.461, Publication and Printing costs, awardees may charge the NSF award before closeout for the costs of publication or sharing of research results, if the costs are not incurred during the period of performance of the award” Would the cost of travel (of course the purpose of which is to disseminate and share the results of the research) where the airfare, registration and other costs are paid for prior to the end of the project period but the travel does not occur until after the end of the project period be an allowable cost? | NSF believes that the coverage in the Uniform Guidance on this topic is clear and no further clarification on the part of NSF is necessary.
AAG, Chapter V.A.3.a. Prior Written Approvals | University of Wisconsin | We appreciate that NSF has clarified that “items identified in the approved budget constitutes NSF's authorization . . . to incur these costs” provided they are consistent with applicable terms, conditions, and regulations. This language will help eliminate confusion when items are included in the approved budget, and costs are later presumed as needing prior approval | Thank-you. No action needed.
AAG, Chapter V.B.1.b.; GPG, Chapter II.C.2.g.(ii) Fringe Benefits | University of Wisconsin | Both of these sections describe the ability of the grantee to charge fringe benefits as direct costs, given that charges are made in accordance with usual accounting practices and/or with approval of the cognizant federal agency. Reference also is made to 2 CFR 200.431, within which part (b)(3)(i) states that, “Payments for unused leave when an employee retires or terminates employment are allowable as indirect costs in the year of payment.” We want to confirm our understanding that NSF policy does not preclude costs of unused leave at retirement and termination from being directly charged to NSF awards. We recognize that NSF policy indicates that such payments may be subject to reasonableness determination. Additionally, we seek affirmation that 2 CFR 200.431 is incorporated into NSF policy to acknowledge that such unused leave also may be allowable as indirect costs and is not a directive to institutions to charge such costs as indirect costs | This issue will be addressed in the latest version of the Frequently Asked Questions that are being developed by the Office of Management and Budget. As such, it would not be appropriate for the issue to be resolved by NSF.
AAG, Chapter V.D.1.(ii)(a) Fixed Rates for Life of the Award | Council on Governmental Relations | This section states: “Federal Awards may not be adjusted in future years as a result of changes in negotiated rates.” We understand that this text is included in the Uniform Guidance, but urge the NSF to work with OMB and other federal agencies to provide clarification that would allow non-profit research organizations the opportunity to continue to have their total-cost for existing award commitments reconsidered where circumstances warrant. This option has been in place with agencies, such as the NIH, since 1997. It is important that this remain a viable option for non-profit organizations that would be affected by the language in this section of the PAPPG | NSF will forward this comment to the Office of Management and Budget for further discussion with the Council on Financial Assistance Reform.
AAG, Chapter V.D.1.(ii)(a) Fixed Rates for Life of the Award | Cold Spring Harbor Laboratory | We understand that this text is included in the OMB Omnibus Guidance, but strongly urge the NSF and all other Federal research funding organizations to work with OMB to provide clarification, such as in the NSF Policy document, that would continue to allow non-profit research organizations the opportunity to have their total-cost for existing award commitments reconsidered where circumstances warrant. This option has been in place with organizations such as the NIH since 1997 (see attached correspondence with AIRI), and must continue to be a viable option for non-profit organizations that may be harmed by this newly mandated restriction | NSF will forward this comment to the Office of Management and Budget for further discussion with the Council on Financial Assistance Reform.

Other Comments:

Topic and PAPPG section | Commenter | Comment | NSF response
Expiring Funds | University of Minnesota | Not addressed in the Guide. The process around expiring funds is not addressed in the guide. While we are now notified that certain funds are expiring there isn't guidance provided on options that a university can employ to manage the funds. Federal agencies differ in the amount of individual guidance provided and at times we are unsure if a methodology described for one agency should be used for another agency | NSF guidance for expiring/canceling award funds will not differ from the standard guidance applicable to all award funds as outlined in the NSF AAG Chapter V: Allowability of Costs. NSF will work toward further improving the awareness of awards with canceling funds held by our awardees. This will include additional communications with awardee institutions as well as other efforts to further highlight awards with canceling funds.
Grants.gov Application Guide | Massachusetts Institute of Technology | There are items added by GPG 14-1 and 15-1 which are not addressed in the Grants.gov guide, and we're not sure whether this means they are not required when submitting via Grants.gov. For example, the Collaboration type and Proposal type checkboxes on the FastLane cover page don't appear to correspond to any information on the Grants.gov SF424 | A new NSF E58 Grants.gov Application Guide will be issued concurrently with the PAPPG.

Title of Collection: “National Science Foundation Proposal/Award Information-Grant Proposal Guide”.

OMB Approval Number: 3145-0058.

Type of Request: Intent to seek approval to extend with revision an information collection for three years.

Proposed Project: The National Science Foundation Act of 1950 (Pub. L. 81-507) set forth NSF's mission and purpose:

“To promote the progress of science; to advance the national health, prosperity, and welfare; to secure the national defense. * * *”

The Act authorized and directed NSF to initiate and support:

• Basic scientific research and research fundamental to the engineering process;

• Programs to strengthen scientific and engineering research potential;

• Science and engineering education programs at all levels and in all the various fields of science and engineering;

• Programs that provide a source of information for policy formulation; and

• Other activities to promote these ends.

Over the years, NSF's statutory authority has been modified in a number of significant ways. In 1968, authority to support applied research was added to the Organic Act. In 1980, The Science and Engineering Equal Opportunities Act gave NSF standing authority to support activities to improve the participation of women and minorities in science and engineering.

Another major change occurred in 1986, when engineering was accorded equal status with science in the Organic Act. NSF has always dedicated itself to providing the leadership and vision needed to keep the words and ideas embedded in its mission statement fresh and up-to-date. Even in today's rapidly changing environment, NSF's core purpose resonates clearly in everything it does: Promoting achievement and progress in science and engineering and enhancing the potential for research and education to contribute to the Nation. While NSF's vision of the future and the mechanisms it uses to carry out its charges have evolved significantly over the last four decades, its ultimate mission remains the same.

Use of the Information: The regular submission of proposals to the Foundation is part of the collection of information and is used to help NSF fulfill this responsibility by initiating and supporting merit-selected research and education projects in all the scientific and engineering disciplines. NSF receives more than 51,000 proposals annually for new projects, and makes approximately 10,500 new awards.

Support is made primarily through grants, contracts, and other agreements awarded to more than 2,000 colleges, universities, academic consortia, nonprofit institutions, and small businesses. The awards are based mainly on evaluations of proposal merit submitted to the Foundation.

The Foundation has a continuing commitment to monitor the operations of its information collection to identify and address excessive reporting burdens as well as to identify any real or apparent inequities based on gender, race, ethnicity, or disability of the proposed principal investigator(s)/project director(s) or the co-principal investigator(s)/co-project director(s).

Burden on the Public: The Foundation estimates that an average of 120 hours is expended for each proposal submitted. An estimated 51,600 proposals are expected during the course of one year for a total of 6,192,000 public burden hours annually.

Dated: August 25, 2014.
Suzanne H. Plimpton,
Reports Clearance Officer, National Science Foundation.

[FR Doc. 2014-20521 Filed 8-27-14; 8:45 am]

BILLING CODE 7555-01-P